DEPARTMENT OF COMMERCE

National Oceanic and Atmospheric Administration

[RTID 0648-XB549]

Pacific Fishery Management Council; Public Meetings

AGENCY: National Marine Fisheries Service (NMFS), National Oceanic and Atmospheric Administration (NOAA), Commerce.

ACTION: Notice of public meetings.

SUMMARY: The Pacific Fishery Management Council's (Pacific Council) and its advisory entities will hold online public meetings.

DATES: The Pacific Council and its advisory entities will meet online November 15-19 and 21-22, 2021, noting there will be no meetings held on Saturday, November 20, 2021. The Pacific Council meeting will begin on Tuesday, November 16, 2021, at 8 a.m. Pacific Standard Time (PST), reconvening at 8 a.m. on Wednesday, November 17 through Friday, November 19, 2021. The Council will reconvene Sunday, November 21, through Monday, November 22. All meetings are open to the public, except for a Closed Session held from 8 a.m. to 10 a.m., Tuesday, November 16, to address litigation and personnel matters. The Pacific Council will meet as late as necessary each day to complete its scheduled business.

ADDRESSES: Meetings of the Pacific Council and its advisory entities will be webinar only. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Chuck Tracy, Executive Director, Pacific Council; telephone: (503) 820-2415 or (866) 806-7204 toll-free, or access the Pacific Council website, www.pcouncil.org, for the proposed agenda and meeting briefing materials.

SUPPLEMENTARY INFORMATION: The November 15-19 and 21-22, 2021 meeting of the Pacific Council will be streamed live on the internet. The broadcasts begin initially at 10 a.m. PST Tuesday, November 16, 2021, and continue at 8 a.m. Wednesday, November 17 through Monday, November 22, 2021, except no meetings are scheduled for Saturday, November 20. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance November 2021 briefing materials and posted on the Pacific Council website at www.pcouncil.org no later than Monday, November 1, 2021.

A. Call to Order

1. Opening Remarks

2. Roll Call

3. Executive Director's Report

4. Approve Agenda

B. Open Comment Period

1. Comments on Non-Agenda Items

C. Administrative Matters

1. Council Coordination Committee Meeting Report

2. Marine Planning

3. Final Regional Operating Agreement

4. Preliminary West Coast Regional Framework for Determining the Best Scientific Information Available

5. Fiscal Matters

6. Legislative Matters

7. Approval of Council Meeting Record

8. Standardized Bycatch Reporting Methodology—Final Action

9. Membership Appointments and Council Operating Procedures

10. Future Council Meeting Agenda and Workload Planning

D. Habitat Issues

1. Current Habitat Issues

E. Groundfish Management

1. National Marine Fisheries Service Report

2. Adopt Stock Assessments

3. Harvest Specifications for 2023-24 Management Including Final Overfishing Limits and Acceptable Biological Catches

4. Preliminary Exempted Fishing Permit Approval for 2023-2024

5. Biennial Management Measures for 2023-24

6. Non-trawl Sector Area Management Measures

7. Inseason Adjustments Including Pacific Whiting Set-Asides for 2022—Final Action

F. Salmon Management

1. Final Methodology Review

2. 2022 Preseason Management Schedule

3. Southern Oregon/Northern California Coast Coho Endangered Species Act Harvest Control Rule—Final Action

G. Pacific Halibut Management

1. Commercial-Directed Fishery Regulations for 2022—Final Action

2. 2022 Catch Sharing Plan and Annual Regulations—Final Action

H. Highly Migratory Species Management

1. National Marine Fisheries Service Report

2. International Management Activities

3. Drift Gillnet Fishery Hard Caps

I. Coastal Pelagic Species Management

1. Preliminary Review of New Exempted Fishing Permits for 2022

2. Fishery Management Plan Management Categories

Advisory Body Agendas

Advisory body agendas will include discussions of relevant issues that are on the Pacific Council agenda for this meeting and may also include issues that may be relevant to future Council meetings. Proposed advisory body agendas for this meeting will be available on the Pacific Council website, www.pcouncil.org, no later than Monday November 1, 2021.

Schedule of Ancillary Meetings
| Time
Day 1—Monday, November 15, 2021:
Enforcement Consultants | 8 a.m.
Groundfish Advisory Subpanel | 8 a.m.
Groundfish Management Team | 8 a.m.
Habitat Committee | 8 a.m.
Highly Migratory Species Advisory Subpanel | 8 a.m.
Highly Migratory Species Management Team | 8 a.m.
Salmon Advisory Subpanel | 8 a.m.
Salmon Technical Team | 8 a.m.
Scientific and Statistical Committee | 8 a.m.
Budget Committee | 10 a.m.
Legislative Committee | 1 p.m.
Day 2—Tuesday, November 16, 2021:
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Scientific and Statistical Committee | 8 a.m.
Enforcement Consultants | As Necessary
Day 3—Wednesday, November 17, 2021:
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Highly Migratory Species Advisory Subpanel | 8 a.m.
Highly Migratory Species Management Team | 8 a.m.
Enforcement Consultants | As Necessary
Day 4—Thursday, November 18, 2021:
Coastal Pelagic Species Advisory Subpanel | 8 a.m.
Coastal Pelagic Species Management Team | 8 a.m.
Groundfish Advisory Subpanel | 8 a.m.
Groundfish Management Team | 8 a.m.
Highly Migratory Species Advisory Subpanel | 8 a.m.
Highly Migratory Species Management Team | 8 a.m.
Enforcement Consultants | As Necessary
Day 5—Friday, November 19, 2021:
California State Delegation | 7 a.m.
Oregon State Delegation | 7 a.m.
Washington State Delegation | 7 a.m.
Groundfish Advisory Subpanel | 8 a.m.
Groundfish Management Team | 8 a.m.
Enforcement Consultants | As Necessary
* No Meetings Scheduled for Saturday, November 20.
Day 6—Sunday, November 21, 2021:
California State Delegation | 7 a.m.
Oregon State Delegation | 7 a.m.
Washington State Delegation | 7 a.m.
Groundfish Advisory Subpanel | 8 a.m.
Groundfish Management Team | 8 a.m.
Enforcement Consultants | As Necessary
Day 7— Monday, November 22, 2021:
California State Delegation | 7 a.m.
Oregon State Delegation | 7 a.m.
Washington State Delegation | 7 a.m.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority:16 U.S.C. 1801 et seq.

Dated: October 25, 2021.
Tracey L. Thompson,
Acting Deputy Director, Office of Sustainable Fisheries, National Marine Fisheries Service.

[FR Doc. 2021-23527 Filed 10-28-21; 8:45 am]

BILLING CODE 3510-22-P